DEPARTMENT OF TRANSPORTATION

Federal Aviation Administration

14 CFR Part 71

[Docket No. FAA-2003-15398; Airspace Docket No. 03-AGL-091]

Revocation of Class D Airspace Area; Chicago, IL

AGENCY: Federal Aviation Administration (FAA), DOT.

ACTION: Final rule.

SUMMARY: This action revokes the Class D airspace area for the Merrill C. Meigs Airport, Chicago, IL. The FAA is taking this action due to the closure of the airport.

EFFECTIVE DATE: 0901 UTC, June 10, 2004.

FOR FURTHER INFORMATION CONTACT: Patricia A. Graham, Air Traffic Division, Airspace Branch, AGL-520, Federal Aviation Administration, 2300 East Devon Avenue, Des Plaines, Illinois 60018, telephone (847) 294-7568.

SUPPLEMENTARY INFORMATION:

Background

On July 28, 2003, the FAA issued a notice proposing to revoke the Class D airspace area for the Merrill C. Meigs Airport. Specifically, that action prposed to revoke the existing Class D airspace area extending from the surface up to and including 3,100 feet above mean sea level (MSL) within a 3.8 nautical mile radius of the now closed Meigs Airport reference point. Class D airspace areas are intended to provide controlled airspace for visual or instrument flight rules operations at airports having an operating Airport Traffic Control Tower (ATCT).

Discussion of Comment

Interested parties were invited to participate in this rulemaking proceeding by submitting written comments on the proposal. All comments received were reviewed prior to taking any final action on this matter. In response to the notice, we received thirty-three comments. Two of the comments received were in support of the proposed airspace action and the others stated objection or provided other comments on the proposal. Those objecting to the proposal expressed concern that the revocation of the Class D Airspace Area would take away the ability of pilots to use the Chicago Meigs Airport in case they had to make an emergency landing, or require some other sort of assistance.

Other commenters expressed concern that revoking the Class D airspace area and closing the Chicago Meigs Airport would result in an increase in the congestion at the Chicago O'Hare International Airport (O'Hare Airport) and the Chicago Midway International Airport (Midway Airport).

Several other commenters stated that it was less convenient to fly into the O'Hare Airport and Midway Airport rather than the former Chicago Meigs Airport. One commenter stated that the lack of controlled airspace around downtown Chicago could have serious potential security risks. Additionally, several commenters expressed a concern that a Class D airspace area is needed to keep a corridor along the shore of Lake Michigan safer; and that the FAA should continue to provide some sort of advisory service to pilots utilizing something similar to an ATCT.

Many of those commenting also expressed a concern that by revoking the Class D airspace area the FAA was supporting the alleged illegal closing of Chicago Meigs Airport, and that the airport should not be closed.

Many of the concerns expressed by those commenting on the notice are beyond the control of the FAA. Specifically, many commenters took issue with the actual closing of the Meigs Airport, the destruction of its runway as well as the lack of availability of the airport in case of an emergency landing, and the impact the closure would have on the Chicago O'Hare and Chicago Midway International Airports. Also, they expressed a belief that there was increased security risk resulting from a reduction in controlled airspace.

While the FAA respects the opinions of those expressing comments regarding the Meigs Airport closure, those comments are outside of the scope of the notice. The purpose of the proposed action was to address the classification of the airspace over the closed Meigs Airport. The FAA proposed this action after and in response to the closure of the Chicago Meigs Airport.

In response to those commenters expressing concern regarding the lack of controlled airspace after the revocation of the existing Class D airspace area, it should be noted that there will be Class E airspace area (which is controlled airspace) extending from 700 feet above the ground to the base of the overlying Chicago, IL Class B Airspace Area in the same area. Air traffic control services will remain available to aircraft operating in this area. These services include safety alerts, traffic advisories, and limited radar vectoring when requested by the pilot. This is the same level of service that has been available on a daily basis since the airport and ATCT closure and is similar to the service available prior to the airport closure during the hours when the Meigs ATCT was closed.

The Rule

This amendment to 14 CFR part 71 revokes the Class D airspace area at Chicago, IL, for the former Merrill C. Meigs Airport. As a result, the existing Class E airspace area will be in effect on a continuous basis. A Class D airspace area extending upward from the surface of the earth is no longer needed because the airport and ATCT have been closed.

The FAA has determined that this regulation only involves an established body of technical regulations for which frequent and routine amendments are necessary to keep them operationally current. Therefore this, proposed regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

The Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.§ 71.1

§ 71.1 Amended

2. The incorporation by reference in 14 CFR 71.1 of the Federal Aviation Administration Order 7400.9L, Airspace Designations and Reporting Points, dated September 2, 2003, and effective September 16, 2003, is amended as follows:

* * * * *

Paragraph 5000—Class D airspace

* * * * *

AGL IL D Chicago, IL [Removed]

* * * * *

Issued in Des Plaines, Illinois on March 04, 2004.
Nancy B. Shelton,
Manager, Air Traffic Division, Great Lakes Region.

[FR Doc. 04-6861 Filed 3-25-04; 8:45 am]

BILLING CODE 4910-13-M